DEPARTMENT OF HEALTH AND HUMAN SERVICES

Office of the Secretary

Request for Applications for the National Community Centers of Excellence in Women's Health (CCOE) Program

Announcement Type: Competitive Cooperative Agreement—FY 2004 Initial announcement.

Funding Opportunity Number: Not applicable.

Catalog of Federal Domestic Assistance: The Catalog of Federal Domestic Assistance number is 93.290.

Dates: To receive consideration applications must be received by the Office of Public Health and Science (OPHS) Grants Management Office no later than July 20, 2004, 5 p.m. eastern standard time.

Summary: The National Community Centers of Excellence in Women's Health (CCOE) program provides funding to community-based organizations to enhance their women's health program through the integration of the following six components: (1) Leadership development for women as health care consumers and providers, (2) training for lay, allied health, and professional health care providers that includes a rural health focus, (3) public education and outreach with special emphasis on outreach to Native American women and/or rural/frontier communities, (4) comprehensive health service delivery that includes gender and age-appropriate preventive services and allied health professionals as members of the comprehensive care team, (5) community-based research that uses the findings to improve the management and delivery of comprehensive, integrated care to all women, and (6) replication of the model in another community to improve health outcomes for underserved women. The CCOE program is not for the development of new programs or to fund direct service, but rather to integrate, coordinate, and strengthen linkages between activities/programs that are already underway in the community to reduce fragmentation in women's health services.

Under this announcement the Office on Women's Health (OWH) anticipates making, through the cooperative agreement grant mechanism, 2 to 4 new 5-year awards by September 30, 2004. Approximately $450,000 is available to make awards of up to $150,000 total cost (direct and indirect) for a 12-month budget period and $750,000 for the 5-year project period. Cost sharing and matching funds is not a requirement of this grant. The actual number of awards made will depend upon the quality of the applications received and the amount of funds available for the CCOE program. The government is not obligated to make any awards as a result of this announcement.

Eligible applicants are public or private nonprofit community-based hospitals, community health centers, and other community-based organizations serving underserved women. Community health centers funded under section 330 of the Public Health Service Act and faith-based organizations are also encouraged to apply. To increase the likelihood of funding a CCOE in Region VIII, in rural/frontier communities and in communities of Native American women, the OWH will award bonus points to applicants meeting these criteria. Application kits may be obtained from Ms. Karen Campbell, Director, OPHS Office of Grants Management, 1101 Wootton Parkway, Suite 550, Rockville, MD 20852, telephone: (301) 594-0758, e-mail: kcampbell@osophs.dhhs.gov.

I. Funding Opportunity Description

Authority: This program is authorized by 42 U.S.C. 300u-2(a)(1), 300u-6(e). The primary purpose of the National Community Center of Excellence in Women's Health (CCOE) program is the creation of “one-stop shopping” or “centers without walls” models of women's health care that is a convenient, user-friendly, interdisciplinary, comprehensive, and integrated care delivery system that enables women of all ages and racial/ethnic groups to receive quality services in a women-friendly, supportive environment. The Department of Health and Human Services (DHHS) Office on Women's Health (OWH) believes that this novel approach to women's health will help to eliminate many of the access barriers and continuity of care issues women encounter when seeking services as well as to reduce fragmentation of care.

The OWH hopes to fulfill this purpose by providing funds to community-based organizations to enhance their women's health program through the integration of the following six components: (1) Leadership development for women as health care consumers and providers, (2) training for lay, allied health, and professional health care providers that includes a rural health focus, (3) public education and outreach with special emphasis on outreach to Native American women and/or rural/frontier communities, (4) comprehensive health service delivery that includes gender and age-appropriate preventive services and allied health professionals as members of the comprehensive care team, (5) community-based research that uses the findings to improve the management and delivery of comprehensive, integrated care to all women, and (6) replication of the model in another community to improve health outcomes for underserved women. The CCOE program is not for the development of new programs or to fund direct service, but rather to integrate, coordinate, and strengthen linkages between activities/programs that are already underway in the community to reduce fragmentation in women's health services.

The proposed CCOE program must address women's health from a gender-based, women-centered, women-friendly, women-relevant, holistic, multi-disciplinary, cultural and community-based perspective. Information and services provided must be culturally and linguistically appropriate for the individuals for whom the information and services are intended. Women's health issues are defined in the context of women's lives, including their multiple social roles and the importance of relationships with other people to their lives. This definition of women's health encompasses mental, dental, and physical health and spans the life course.

The goals of the CCOE program are to:

1. Increase the number of health professionals, including allied health professionals, trained to work with underserved, Native American, and rural/frontier communities and to increase their leadership and advocacy skills.

1a. Increase the number of young women, especially Native Americans, Blacks, and Hispanics, who pursue health careers and increase the leadership skills and opportunities for women in the community.

2. Eliminate health disparities for women who are underserved due to age, gender, race/ethnicity, education, income, disability, or living in rural/frontier localities.

3. Reduce the fragmentation of women's health services and access barriers by using a framework that coordinates and integrates comprehensive health services. Comprehensive health services include gender and age-appropriate preventive services and allied health professionals on the service delivery team.

4. Increase the women's health knowledge base by involving the community in identifying and conducting research related to and responsive to the health needs and issues of concern to underserved women in the target community.

5. Empower underserved women as health care consumers and decision-makers.

A CCOE program must: (1) Develop and/or strengthen a framework to bring together a comprehensive array of services for women with an emphasis on service delivery to Native American women and/or rural/frontier communities; (2) develop promising strategies to train a cadre of health care providers that include allied health professionals and community health workers who are capable of addressing issues at the community level that impact underserved women's health needs; (3) promote leadership/career development for women in the health professions, including allied health professions and community health workers, and women/girls in the community; (4) enhance public education and outreach activities in women's health with an emphasis on gender-specific and age-appropriate prevention and/or reduction of illness or injuries that appear controllable through increased knowledge that leads to a modification of behavior; (5) participate in a national evaluation of the CCOE program; (6) conduct community-based research in women's health that uses the results to improve the services and care provided to women in the community; (7) evaluate their program; and (8) demonstrate an ability to foster the transfer of lessons learned to other communities interested in improvements in women's health. A CCOE program may develop outreach and education materials, training programs that include a focus on rural/frontier health and the effective use of allied health professionals in care delivery, and leadership development activities/materials. Award recipients must also, with input from community representatives, put into place and track a set of measurable objectives for improving health outcomes and decreasing health disparities for underserved women in the community. In addition, the CCOE program must contribute to the development of a comprehensive national CCOE “how-to” manual by submitting a site-specific manual that is updated annually and describes the steps taken to implement each component of the CCOE program, a discussion of the effectiveness of the implementation strategy(ies) and how measured, and the impact of the program on the targeted community/population. A comprehensive outline for the manual has been prepared and will be given to successful applicants at the orientation meeting. A draft manual will be developed in FY 2004, using the information provided, and made available to other community-based organizations interested in establishing a CCOE program. The OWH plans to publish a final comprehensive “how-to” manual near the end of 2005.

At a minimum, each CCOE clinical care center (ccc) must be a physically-identifiable space, within the CCOE facility(s), for the delivery of comprehensive health care that includes gender and age-appropriate preventive services for women. The CCOE clinical care center must have permanent signage and be devoted to women-friendly, women-centered, women-relevant care delivered from a multidisciplinary, holistic, and culturally and linguistically appropriate perspective. The CCOE clinical care center must also have a clinical intake form, referral and tracking system, and procedures for identifying and counting the women served by the CCOE by specialty area and for tracking the cost of services provided to women who receive interdisciplinary care through the CCOE program. Sites must be able to differentiate the care provided to women counted as CCOE patients compared to non-CCOE patients.

II. Award Information

The CCOE program will be supported through the cooperative agreement mechanism. Using this mechanism, the OWH anticipates making 2 to 4 new 5-year awards in FY 2004. The anticipated start date for new awards is September 30, 2004, and the anticipated period of performance is September 30, 2004, through September 29, 2009. Approximately $450,000 is available to make awards of up to $150,000 total cost (direct and indirect) for a 12-month budget period and $750,000 for the 5-year project period. However, the actual number of awards made will depend upon the quality of the applications received and the amount of funds available for the CCOE program. Noncompeting continuation awards of up to $150,000 (total cost) per year will be made subject to satisfactory performance and availability of funds.

Under previous program announcements, the OWH funded three new programs in FY 2000, four new programs in FY 2001, and five new programs in FY 2003. A total of 12 programs have been funded.

The CCOE program is a collaborative effort between the OWH, the Office of Minority and Special Populations in the Bureau of Primary Health Care of the Health Resources and Services Administration, and the Office of Minority Health within the Office of Public Health and Science, DHHS. These offices will provide the technical assistance and oversight necessary for the implementation, conduct, and assessment of program activities. The applicant shall:

1. Implement the CCOE model described in the application.

2. Develop implementation plans and replicate the CCOE model in another community.

3. Conduct an evaluation of their CCOE program.

4. Participate in the annual meetings of the CCOE Center Directors.

5. Participate in the development of a comprehensive national CCOE “How to” manual.

6. Participate in a national evaluation of the CCOE program following the guidance provided by the OWH contractor.

7. Design and implement a CCOE Web site within six months of receipt of the award that comply with Federal Web site development guidance.

8. Display permanent signage designating the facility as a National Community Center of Excellence in Women's Health.

9. Participate in special meetings and projects/funding opportunities identified and/or offerers by the OWH.

10. Adhere to all program requirements specified in the CCOE Federal Register notice, the Memorandum of Understanding, and the Notice of Grant Award.

11. Submit required progress, annual, and financial reports by the due dates stated in this announcement and the Notice of Grant Award.

The Federal government will:

1. Participate in at least two annual meetings with the CCOE Center Directors and Program Coordinators.

2. Participate in the development of a comprehensive national CCOE “How-to” manual.

3. Review and approve draft “How to” manuals.

4. Participate in a national evaluation of the CCOE programs using Guidance /measurements provided by the OWH contractor.

5. Review and concur with requested project modifications.

6. Review the design of CCOE Web sites.

7. Site visit CCOE facilities.

8. Review all quarterly, annual, and final progress reports.

9. Conduct an orientation meeting for the new CCOEs within the first month of funding.

10. Facilitate review and clearance of all Center publications to insure adherence to DHHS policies.

11. Revise implementation plan for and approve the replication sites.

The DHHS is committed to achieving the health promotion and disease prevention objectives of Healthy People 2010 and the HealthyUS Initiative. Emphasis will be placed on aligning CCOE activities and programs with the DHHS Secretary's four priority areas—heart disease, cancer, diabetes, and HIV/AIDS—and with the Healthy People 2010: Goal 2—eliminating health disparities due to age, gender, race/ethnicity, education, income, disability, or living in rural localities. More information on the Healthy People 2010 objectives may be found on the Healthy People 2010 Web site: http://www.health.gov/healthypeople. Another reference is the Healthy People 2000 Review—1998-99. One free copy may be obtained from the National Center for Health Statistics (NCHS), 6525 Belcrest Road, Room 1064, Hyattsville, MD 20782 or telephone (301) 458-4636 (DHHS Publication No. (PHS) 99-1256). This document may also be downloaded from the NCHS Web site: http://www.cdc.gov/nchs. Also, Steps to a HealthierUS is a bold new initiative from the Department that advances the goal of helping Americans live longer, better, and healthier lives.

To help implement the HealthierUS initiative, the Department launched the Steps to a HealthierUS program. It lays out DHHS priorities and programs for Steps to a HealthierUS, focusing attention on the importance of prevention and promising approaches for promoting healthy environments.

III. Eligibility Information

Eligible Applicants. The CCOE applicant must be a public or private nonprofit community-based hospital, community health center, or community-based organization serving underserved women. Programs that will be implemented in medically underserved areas, enterprise communities, and empowerment zones as well as community health centers funded under section 330 of the Public Health Service Act and faith-based organizations are encouraged to apply. Native American tribal organizations meeting these eligibility criteria are also encouraged to apply.

All applicants receiving section 330 funding must identify themselves as recipients of these funds in the Background section of the application and by checking the appropriate response on the OWH Project Profile form. Community entities/organizations, including faith-based organizations, that have alliances, partnerships, networks with, or other affiliations with an academic health center are also eligible to apply for a CCOE grant as long as the community entity/organization has a leading management role in the activity and maintains control of all funding. Academic health centers and State, county, and local health departments are not eligible for funding under this announcement.

Cost Sharing or Matching Funds. Cost sharing, matching funds, and cost participation is not a requirement of this grant.

Other. Preference will be given to:

1. Applicants located in DHHS Region VIII (Colorado, Montana, North Dakota, South Dakota, Utah, and Wyoming),

2. Organizations located in rural and/or frontier communities, and

3. Organizations serving significant numbers of Native American women.

To increase the likelihood of funding a CCOE in Region VIII, in rural/frontier communities, and in communities that serve a significant number of Native American women, the OWH will award bonus points to applicants meeting these criteria. The bonus points available are shown below:

Rural/Frontier site or population—10 points

DHHS Region VIII applicants—5 points

Native American population—5 points

To be considered eligible for review, applications must be received by the Office of Public Health and Science (OPHS), Office of Grants Management by 5 p.m. on July 20, 2004. Applications will be considered as meeting the deadline if they are received on or before the deadline date. The application due date requirement in this announcement supercedes the instructions in the PHS 5161-1. Applications submitted by facsimile transmission (FAX) or any other electronic format are ineligible for review and will not be accepted. Applications that do not meet the deadline will be considered ineligible and will be returned to the applicant unread.

Applicants are required to submit an original ink-signed and dated application and 2 photocopies. All pages must be numbered clearly and sequentially beginning with the Project Profile. The application must be typed double-spaced on one side of plain 8 ½″ × 11″ white paper, using at least a 12 point font, and contain 1” margins all around. Applications not adhering to these guidelines may not be reviewed.

Applications will be screened upon receipt. Those that are judged to be incomplete or arrive after the deadline will be returned without review or comment. Applications that exceed the requested amount of $150,000 for a twelve-month budget period and $750,000 for the five-year project period may also be returned without review or comment.

IV. Application and Submission Information

1. Address to Request Application Package: Application kits may be requested by calling (301) 594-0758 or writing to Ms. Karen Campbell, Director, Office of Public Health and Science (OPHS) Office of Grants Management, 1101 Wootton Parkway, Suite 550, Rockville, MD 20852. Applications must be prepared using Form PHS 5161-1 (revised July 2000). This form is available in Adobe Acrobat format at the following Web site: http://www.cdc.gov/od/pgo/forminfo.htm.

2. Content and Format of Application and Submission: At a minimum, each application for a cooperative agreement grant funded under this CCOE announcement must:

• Present a plan to integrate all six components of the CCOE program by the end of the first year of funding, although only four components have to be in place at the time the application is submitted. The four established components (public education and outreach, leadership development, comprehensive health services, and one selected by the applicant) must be clearly identified in the proposal. Applicants are encouraged to be creative in suggesting ways to increase integration among the CCOE components.

• Develop a CCOE advisory board or ensure that their already established advisory board is included in the decision-making process for CCOE program development, identification of community-based research questions, and formulation of CCOE policies. If the role of the established advisory board is expanded to include the CCOE program, then the applicants should also ensure that the advisory board includes representative(s) from the CCOE program and its community partner organizations. CCOE advisory board members and their organizational affiliation must be clearly identified in the proposal.

• Be a sustainable organization with an established network of partners capable of providing coordinated and integrated women's health services in the targeted community. The network of partner organizations must have the capability to coordinate and provide comprehensive, seamless health services for women and empower them with community-based women's health research information that addresses issues of particular concern to the women, teaching/training opportunities in women's health, leadership opportunities in health for community women, and community outreach/education activities in women's health to improve the health status of women in the community. The partners and their roles and responsibilities to the CCOE must be clearly identified in the application. The applicant will need to define the components of comprehensive care, demonstrate that they are culturally, linguistically, and gender and age appropriate, and show that they have a clear and sustainable framework for providing those services.

• Have an established clinical care center/facility, an operating public education/outreach program, and a leadership development plan. A time line and plans for phasing in the remaining CCOE components, except replication, by the end of Year 1 must be described in detail in the application.

• Demonstrate the ways in which the organization and the care that are coordinated through its partners are gender and age appropriate, women-focused, women-friendly, women-relevant, and sensitive to the importance of patient/provider communication/relationships for medically underserved women of all ages. The care that is coordinated through this organization must be focused on health promotion, disease prevention, and treatment and use allied health professionals in the delivery of care.

• Detail/specify the roles and resources/services that each partner organization bring to the program, the duration and terms of agreement as confirmed by a signed agreement between the applicant organization and each partner, and describe how the partner organizations will operate within the CCOE structure. The partnership agreement(s) must name the individual who will work with the CCOE program, describe their function, and state their qualifications. The documents, specific to each organization (form letters are not acceptable), must be signed by individuals with the authority to represent and bind the organization (e.g., president, chief executive officer, executive director, or other similarly situated individual) and submitted as part of the grant application.

• Describe in detail plans for the local evaluation of the CCOE program and when and how information obtained from the evaluation will be used to enhance the CCOE program. The applicant must also indicate their willingness to participate in a national evaluation of the CCOE program to be conducted under the leadership of the OWH contractor.

• Describe in detail the women's health research agenda, the planned community-based research and the research methodology/procedure. Applicants may: (a) Propose original patient-oriented research; (b) enter into a formal agreement with institutions conducting population-based research to facilitate women's entry into clinical trial(s)/patient-oriented research; (c) participate in the national evaluation of the CCOE program (required of all awardees); (d) link with organizations conducting community-based research; and/or (e) propose other original/creative research projects. To satisfy the community-based research component of the CCOE program, all applicants must have a women's health research agenda and undertake at least two of the research activities listed above. However, if a CCOE proposes to conduct original research and participate in the national evaluation of the CCOE program, these two activities will satisfy the community-based research component.

3. Format and Limitations of Application: Applicants are required to submit an original ink-signed and dated application and 2 photocopies. All pages must be numbered clearly and sequentially beginning with the Project Profile. The application must be typed double-spaced on one side of plain 8 ½″ x 11″ white paper, using at least a 12 point font, and contain 1″ margins all around.

The Project Summary and Project Narrative must not exceed a total of 25 double-spaced pages, excluding the appendices. The original and each copy must be stapled and/or otherwise securely bound. The application should be organized in accordance with the format presented in the Program Guidelines. An outline for the minimum information to be included in the “Project Narrative” section is presented below. The content requirements for the Project Narrative portion of the application are divided into five sections and are described below within each Factor. Applicants must pay particular attention to structuring the narrative to respond clearly and fully to each review Factor and associated criteria. Applications not adhering to these guidelines may not be reviewed.

I. Background

A. Local CCOE goals and purpose(s)

B. Section 330 funding

C. Local CCOE program objectives

1. Tied to program goal(s)

2. Measurable with time frame

3. Elements identified in Factor 5: Objectives

D. CCOE organization charts that include partners and a discussion of the resources being contributed by the CCOE, partners, personnel and their expertise and how their involvement will help achieve the CCOE program goals

II. Implementation Plan (Approach to the establishment of the CCOE program)

A. Four components in place, integration plans with a timetable for phasing in the other two components

B. Partnerships and referral system/follow up

C. Community-based research

D. Plans for sustaining the CCOE

E. National CCOE “how-to” manual

F. Elements identified in Factor 1: Implementation Plan

III. Management Plan

A. Key project staff, their resumes, and a staffing chart for budgeted staff

B. To-be-hired staff and their qualifications

C. Staff responsibilities

D. Management experience of the lead agency and partners as related to their role in the CCOE program

E. Succession planning and cross-training of responsibilities

F. CCOE Advisory board

G. Elements identified in Factor 2: Management Plan

IV. Local CCOE Evaluation Plan

A. Purpose

B. Design/methodology

C. Use of results to enhance programs

D. Elements identified in Factor 3: Evaluation Plan

V. Technical Assistance/Replication Strategy

A. Identification of replication site

B. Reason for selection of replication site

C. Time line for phasing in and integrating components

D. Technical Assistance plans/strategies

E. Elements identified in Factor 4: Technical Assistance

Appendices

A. Memorandums of Agreement/Understanding/Partnership Letters

B. Required Forms (Assurance of Compliance Form, etc.)

C. Key Staff Resumes

D. Charts/Tables (Partners, advisory board, services, population demographics, components, etc.)

E. Other attachments

Use of Funds: A majority of the funds from the CCOE award must be used to support staff and efforts aimed at coordinating and integrating the six components of the CCOE program. The Center Director, or the person responsible for the day-to-day management of the CCOE program, must devote at least a 75 percent level of effort to the program. Funds may also be used to transfer the lessons learned/successful strategies from the CCOE program (technical assistance) through activities such as showcasing the Center at meetings and workshops; providing direct technical assistance to other communities; and providing technical assistance to allied health and health professionals, directly or through their professional organizations, interested in working with underserved women in the community. These may include either process-based lessons (i.e., How to bring multiple community partners together) or outcomes-based lessons (i.e., How to increase diabetes screening and control through improved outreach, education, and treatment).

4. Replication of Model: The CCOE is also required to replicate its model in an organization that is not an entity of the parent grant organization. The replication site should be identified at the time the application is submitted to the OWH. A Memorandum of Understanding (MOU), signed by an individual authorized to commit the organization to serve as a replication site, with a timeline for the complete replication of the CCOE model, should also be included in the application. As an alternative, a letter of commitment from 1-2 organizations agreeing to serve as a replication site, if the final CCOE model is compatible with their organization's mission and infrastructure, is also an acceptable means of satisfying the replication requirement.

Activities to replicate the model must be underway in Year 2 of the grant and completed by the end of Year 3. The entire integrated CCOE model—all components except technical assistance and replication—must be in place at the replication site by the end of Year 3. One approach to the replication of the CCOE model may be to start the process with the most developed component and phase in the other components. Another approach may be to begin with a component that will help address an identified need of the replication site. The OWH encourages the development of a replication strategy that will be most effective based on the needs and resources of the CCOE and the replication site.

The OWH also encourages the selection of a community-based organization that has an on-going or prior relationship with the CCOE to facilitate the replication of the model and recommends that at least one representative from the CCOE participate in the planning meetings of the replication site and vice-versa. However, the selection of new community entities as replication sites is acceptable, if the applicant believes the site has the infrastructure and base components necessary to accommodate the CCOE model.

To successfully implement the CCOE model, the replication site must have, at a minimum, a stable infrastructure and the commitment of the leadership. Below are additional characteristics/criteria of an eligible replication site:

(a) Must be a community entity.

(b) Must provide comprehensive interdisciplinary primary care and has already demonstrated some evidence of commitment to women-focused, women-friendly care.

(c) Must have several CCOE components in place or at least there must be the ability to implement all components.

(d) Must not be an academic health center/academic institution.

(e) Must be financially viable with a strong funding base.

Funds may be used for personnel, consultants, supplies (including screening, education, and outreach supplies), and grant related travel. Funds may not be used for construction, building alterations, equipment, medical treatment, or renovations. All budget requests must be justified fully in terms of the proposed CCOE goals and objectives and include an itemized computational explanation/breakout of how costs were determined.

5. Meetings: The CCOE Center Directors will meet twice a year. The first meeting will be held in the Washington metropolitan area and the second meeting may be held on-site at one of the CCOEs. The CCOE's budget should include a request for funds to pay for the travel, lodging, and meals for the two Center Directors' meetings. The first meeting is usually held between mid-November and mid-December and the second Center Directors' meeting is usually held in May.

Center Directors are encouraged to bring their Program Coordinators to these meetings and should include their travel cost in the CCOE budget.

In the first year of the award, the new CCOE Center Directors and Program Coordinators are required to attend an orientation meeting that will be held in the Washington metropolitan area on October 28, 2004. The CCOE's budget should also include a request for funds for 2 participants (the CCOE Center Director and Program Coordinator) to attend this meeting.

6. Submission Date and Time: To be considered for review, applications must be received by the Office of Public Health and Science (OPHS), Office of Grants Management by 5 p.m. Eastern Standard Time on July 20, 2004. Applications will be considered as meeting the deadline if they are: (1) Received on or before the deadline date or (2) postmarked on or before the deadline date and received in time for orderly processing. The application due date requirement in this announcement supercedes the instructions in the PHS 5161-1. Applications submitted by facsimile transmission (FAX) or any other electronic format will not be accepted. Applications not received by the deadline will be considered late and ineligible for consideration. They will be returned to the applicant unread.

Applications will be screened upon receipt. Those that are judged to be incomplete or arrive after the deadline will be returned without review or comment. Applications that exceed the requested amount of $150,000 for a twelve-month budget period and $750,000 for the five-year project period may also be returned without review or comment. Applicants that are judged to be in compliance will be notified via the PHS-3038-1 Application Receipt Record included in the grant application kit. Accepted applications will be reviewed for technical merit in accordance with DHHS policies. Applications will be evaluated by a technical review panel composed of experts in the fields of program management, community service delivery, community outreach, health education, community-based research, and community leadership development and evaluation. Consideration for award will be given to applicants that best demonstrate progress and/or plausible strategies for eliminating health disparities through the integration of training, leadership/career development, public education and outreach, comprehensive services that include gender and age-appropriate preventive services, community-based research, technical assistance to other communities and replication of the model. Applicants are advised to pay close attention to the specific program guidelines and general instructions in the application kit that may be obtained from Ms. Karen Campbell, Director, Office of Public Health and Science Office of Grants Management, 1101 Wootton Parkway, Suite 550, Rockville, MD 20852 and to the definitions provided in this notice.

Questions regarding programmatic information and/or requests for technical assistance in the preparation of the grant application should be directed in writing to Ms. Barbara James, CCOE Program Director, Office on Women's Health, Division of Program Management, Parklawn Building, Room 16A-55, 5600 Fishers Lane, Rockville, MD 20857, e-mail: bjames1@osophs.dhhs.gov. Technical assistance on budget and business aspects of the application may be obtained from Ms. Karen Campbell, OPHS Grants Management Office, 1101 Wootton Parkway, Suite 550, Rockville, MD 20852, telephone: (301) 594-0758.

Applications should be submitted to: Ms. Karen Campbell, Director, Office of Public Health and Science (OPHS) Office of Grants Management, 1101 Wootton Parkway, Suite 550, Rockville, MD 20852.

7. Intergovernmental Review: This program is subject to the Public Health Systems Reporting Requirements. Under these requirements, a community-based non-governmental applicant must prepare and submit a Public Health System Impact Statement (PHSIS). Applicants shall submit a copy of the application face page (SF-424) and a one page summary of the project, called the Public Health System Impact Statement. The PHSIS is intended to provide information to State and local health officials to keep them apprized on proposed health services grant applications submitted by community-based, non-governmental organizations within their jurisdictions.

This program is also subject to the requirements of Executive Order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC in each affected State. A complete list of SPOCs may be found at the following Web site: http://www.whitehouse.gov/omb/grants/spoc.html. The due date for State process recommendations is 60 days after the application deadline. The OWH does not guarantee that it will accommodate or explain its responses to State process recommendations received after that date. (See “Intergovernmental Review of Federal Programs,” Executive Order 12372, and 45 CFR part 100 for a description of the review process and requirements.)

Community-based, non-governmental applicants are required to submit, no later than the Federal due date for receipt of the application, the following information to the head of the appropriate state and local health agencies in the area(s) to be impacted: (a) a copy of the face page of the application (SF 424), (b) a summary of the project (PHSIS), not to exceed one page, which provides: (1) A description of the population to be served, (2) a summary of the services to be provided, and (3) a description of the coordination planned with the appropriate state or local health agencies. Copies of the letters forwarding the PHSIS to these authorities must be contained in the application materials submitted to the OWH.

8. Funding Restrictions: Funds may not be used for construction, building alterations, equipment purchase, medical treatment, renovations or to purchase food.

9. Other Submission Requirements: Beginning October 1, 2003, all applicants are required to obtain a Data Universal Numbering System (DUNS) number as preparation for doing business electronically with the Federal Government. The DUNS number must be obtained prior to applying for OWH funds. The DUNS number is a nine-character identification code provided by the commercial company Dun & Bradstreet, and serves as a unique identifier of business entities. There is no charge for requesting a DUNS number, and you may register and obtain a DUNS number by either of the following methods: Telephone: 1-866-705-5711; Web site: https://www.dnb.com/product/eupdate/requestOptions.html.

Be sure to click on the link that reads, “DUNS Number Only” at the right hand, bottom corner of the screen to access the free registration page. Please note that registration via the Web site may take up to 30 business days to complete.

V. Application Review Information

Review Criteria: The technical review of applications will consider the following factors:

Factor 1: Implementation Plan—30 Points

This section must discuss:

1. Appropriateness of the existing community resources and linkages established to deliver coordinated, comprehensive women's services to meet the requirements of the CCOE program. Describe allied health professionals that will be affiliated with the program and their role in service delivery.

2. Appropriateness of proposed approach, component integration, and specific activities described to address each element of the National Community Centers of Excellence in Women's Health program including: (a) Training for professional, allied health, and lay health care workers serving underserved women and rural/frontier communities, (b) leadership/career development for women providers, and Native American, Black, and Hispanic women/girls in the community, (c) outreach and education, (d) comprehensive women's health services that include gender and age-appropriate preventive services, (e) community-based research that involves the community in substantive roles/ways, and (f) replication of the CCOE model. Although only four components of the CCOE (comprehensive health services, public education and outreach with an emphasis on outreach to Native American women, leadership development, and one selected by the applicant) have to be in place/operational at the time the application is submitted, the applicant must discuss/describe the resources available to support each component, time lines and plans for phasing in the remaining components, and the relationship of each integrated component to the overall goals and objectives of the CCOE program.

3. Soundness of evaluation objectives for measuring program effectiveness and changes in health outcomes.

4. Willingness to participate in the national CCOE evaluation.

5. Willingness to contribute to the development of a comprehensive national CCOE “how-to” manual.

Factor 2: Management Plan—25 Points

Applicant organization's capability to manage the project as determined by the qualifications of the proposed staff or requirements for “to be hired” staff; proposed staff level of effort; management experience of the lead agency; and the experience, resources and role of each partner organization as it relates to the needs and programs/activities of the CCOE program, diversity of the CCOE staff as it relates to and reflects the community and populations served, integration of allied health professionals into the CCOE program, and integration of the advisory board into the CCOE activities. Detailed position descriptions, resumes of key staff, and a staffing chart should be included in the appendix. The management plan should also describe succession planning for key personnel and cross training of responsibilities. Thoughtful succession planning and cross training of responsibilities should contribute to the sustainability of the program and provide promotion potential.

Factor 3: Evaluation Plan—15 Points

A clear statement of program goal(s) and thoroughness, feasibility and appropriateness of the local CCOE evaluation design, data collection plan, analysis of results, and procedures to determine if the program goals are met. A clear statement of willingness to participate actively in the national CCOE evaluation.

Factor 4: Technical Assistance/Replication of the Model—10 Points

This section should include plans for the replication of the CCOE model in a similar population and/or community. The plan must include justification for the community selected and a detailed discussion of how the applicant will replicate their model in the community. Appropriate MOUs or Letters of Intent should support assertions made in this section. Technical assistance activities to be undertaken by the CCOE, target audience, and purpose of the activity should be described.

Factor 5: Objectives—10 Points

Merit of the objectives outlined by the applicant to address the CCOE program discussed in the program goals section in a way relevant to the targeted community needs and available resources. Objectives must be measurable and attainable within a stated time frame.

Factor 6: Background—10 Points

Adequacy of demonstrated knowledge of systems of health care for underserved women at the local level; demonstrated need within the proposed local community and target population of underserved women; demonstrated support and established linkages in place to operate a fully functional CCOE program; demonstrated access to medically underserved women, including Native American women; and documented past efforts/activities outcome with underserved women. Clear description of the CCOE target population including total population, percent women, race/ethnicity data, and age distribution. Suggested tables to be used to report these data are included in the Program Guidance/Application Kit.

Review and Selection Process: Accepted applications will be reviewed for technical merit in accordance with DHHS policies. Applications will be evaluated by a technical review panel composed of experts in the fields of program management, community service delivery, community outreach, health education, community-based research, and community leadership development and evaluation. Consideration for award will be given to applicants that best demonstrate progress and/or plausible strategies for eliminating health disparities through the integration of training, leadership/career development, public education and outreach, comprehensive services that include gender and age-appropriate preventive services, community-based research, technical assistance to other communities and replication of the model.

Funding decisions will be made by the OWH, and will take into consideration the recommendations and ratings of the review panel, program needs, geographic location, stated preferences, and the recommendations of DHHS Regional Women's Health Coordinators (RWHC). A pre-award site visit, conducted by DHHS RWHCs, will be scheduled prior to the award of a grant with all applicants with scores in the funding range. The purpose of the pre-award site visit will be to assess the applicant's readiness to implement a CCOE program. The OWH plans to conduct the pre-award site visits during the week of August 16, 2004.

To increase the likelihood of funding a CCOE in Region VIII, in rural/frontier communities, and in communities that serve a significant number of Native American women, the OWH will award bonus points to applicants meeting these criteria. The bonus points available are shown below:

Rural/Frontier site or population—10 points

DHHS Region VIII applicants—5 points

Native American population—5 points

VI. Award Administration Information

1. Award Notices: Within two weeks of the review of all applications, all applicants will receive a letter stating whether they are likely to be or have not been approved for funding. For those likely to be funded, the letter is not an authorization to begin performance of grant activities. Applicants selected for funding support will receive a Notice of Grant Award signed by the grants officer. This is the authorizing document and it will be sent electronically and followed up with a mailed copy. Pre-award costs are not supported.

2. Administrative and National Policy Requirements: (1) Requests that require prior approval from the awarding office (see Chapter 8, PHS Grants Policy Statement) must be submitted in writing to the GMO. Only responses signed by the GMO are to be considered valid. Grantees who take action on the basis of responses from other officials do so at their own risk. Such responses will not be considered binding by or upon the OWH. (2) Responses to reporting requirements, conditions, and requests for post-award amendments must be mailed to the attention and address of the Grants Management Specialist indicated below in “Contacts.” All correspondence requires the signature of an authorized business official and/or the project director. Failure to follow this guidance will result in a delay in responding to your correspondence. (3) The DHHS Appropriations Act requires that, to the greatest extent practicable, all equipment and products purchased with funds made available under this award should be American-made. (4) The DHHS Appropriations Act requires that, when issuing statements, press releases, requests for proposals, bid solicitations, and other documents describing projects or programs funded in whole or in part with Federal money, the issuance shall clearly state the percentage and dollar amount of the total costs of the program or project that will be financed with Federal money and the percentage and dollar amount of the total costs of the project or program that will be financed by nongovernmental sources. (5) A notice in response to the President's Welfare-to-Work Initiative was published in the Federal Register on May 16, 1997. This initiative is designed to facilitate and encourage grantees to hire welfare recipients and to provide additional training and/or mentoring as needed. The text of the notice is available electronically on the OMB home page at http://www.whitehouse.gov/wh/eop/omb.

3. Reporting: In addition to those listed above, a successful applicant will submit quarterly and annual progress reports that includes a summary of the local CCOE evaluation and a discussion of steps taken to implement each component of the CCOE program and the impact of the program on the targeted community/population, an annual Financial Status Report, a final Progress Report, a final Financial Status Report, and a technical assistance documentation report (How-To manual) in the format established by the OWH, in accordance with provisions of the general regulations which apply under “Monitoring and Reporting Program Performance,” 45 CFR part 74, subpart J and part 92. The purpose of the quarterly and annual progress reports is to provide accurate and timely program information to program managers and to respond to Congressional, Departmental, and public requests for information about the CCOE program. An original and two copies of the quarterly progress report must be submitted by January 10, April 10, July 10, and August 15. If these dates fall on a Saturday or Sunday, the report will be due the following Monday. The last quarterly report will serve as the annual progress report and must describe all project activities for the entire year. The annual progress report must be submitted by August 15 of each year and will serve as the non-competing continuation application. Therefore, this report must also include the budget request for the next grant year, with appropriate justification, and be submitted using Form PHS 5161.

VII. Agency Contact(s)

For application kits and information on budget and business aspects of the application, please contact: Ms. Karen Campbell, Director, OPHS Grants Management Office, 1101 Wootton Parkway, Suite 550, Rockville, MD 20857. Telephone: (301) 594-0758. E-mail: kcampbell@osophs.dhhs.gov.

Questions regarding programmatic information and/or requests for technical assistance in the preparation of the grant application should be directed in writing to Ms. Barbara James, Director, National Community Centers of Excellence in Women's Health Program, 5600 Fishers Lane, Room 16A-55, Rockville, MD 20859. Telephone: (301) 443-1402. E-mail: bjames1@osophs.dhhs.gov.

VIII. Other Information

Twelve (12) CCOE programs are currently funded by the OWH. Information about these programs may be found at the following Web site: http://www.4woman.gov/owh/CCOE/index.htm.

**The Government is not obligated to make any awards as a result of this announcement.

Definitions

For the purposes of this cooperative agreement program, the following definitions are provided: Clinical Care Center: At a minimum, each CCOE clinical care center (ccc) must be a physically-identifiable space, within the CCOE facility(s), for the delivery of comprehensive health care that includes gender and age-appropriate preventive services for women. The CCOE clinical care center must have permanent signage and be devoted to women-friendly, women-centered, women-relevant care delivered from a multidisciplinary, holistic, and culturally and linguistically appropriate perspective. The CCOE clinical care center must also have a clinical intake form, referral and tracking system, and procedures for identifying and counting the women served by the CCOE by specialty area and for tracking the cost of services provided to women who receive interdisciplinary care through the CCOE program. Site must be able to differentiate the care provided to women counted as CCOE patients compared to non-CCOE patients.

Community-based: The locus of control and decision-making powers is located at the community level, representing the service area of the community or a significant segment of the community.

Community-based organization: Public and private, nonprofit organizations that are representative of communities or significant segments of communities.

Community-based research: Community members work with researchers to help determine research issues, shape the research process/objectives, and bring research results back to the community. Community members' participation maximizes the potential for exchange in knowledge and implementation of research findings. The shared goal is to maintain scientific integrity in the research methods, while also incorporating the skills, knowledge, and strengths of the participants/beneficiaries of the research. There is an emphasis on ensuring that research results are translated into practice and communicated back to the community.

Community health center: A community-based organization that provides comprehensive primary care and preventive services to medically underserved populations. This includes but is not limited to programs reimbursed through the Federally Qualified Health Centers mechanism, Migrant Health Centers, Primary Care Public Housing Health Centers, Healthcare for the Homeless Centers, and other community-based health centers.

Comprehensive women's health services: Services including, but going beyond traditional reproductive health services to address the health needs of underserved women in the context of their lives, including a recognition of the importance of relationships in women's lives, and the fact that women play the role of health providers and decision-makers for the family. Services include basic primary care services; acute, chronic, and preventive services including gender and age-appropriate preventive services; mental and dental health services; patient education and counseling; promotion of healthy behaviors (like nutrition, smoking cessation, substance abuse services, and physical activity); and enabling services. Ancillary services are also provided such as laboratory tests, X-ray, environmental, social referral, and pharmacy services.

Coordinated care: The formal linkages, case management services, partnering arrangements, and patient advocate support that enable better coordination of women's health resources and help underserved women to navigate systems to obtain the comprehensive health services they need. Community-based organizations are expected to coordinate with State and local health departments, nonprofit organizations, academic institutions, or other local organizations in the community as appropriate.

Culturally competent: Information and services provided at the educational level and in the language and cultural context that are most appropriate for the individuals for whom the information and services are intended. Additional information on cultural competency is available at the following Web site: http://www.aoa.dhhs.gov/May2001/factsheets/Cultural-Competency.html.

Cultural perspective: Recognizes that culture, language, and country of origin have an important and significant impact on the health perceptions and health behaviors that produce a variety of health outcomes.

Enabling services: Services that help women access health care, such as transportation, parking vouchers, translation, child care, and case management.

Frontier Area: Areas with low population density that is usually fewer than 6-7 persons per square mile.

Gender-based Care: Highlights inequalities between men and women in access to resources to promote and protect health, in responses from the health sector, and in the ability to exercise the right to quality health care.

Healthy People 2010: A set of national health objectives that outlines the prevention agenda for the Nation. Healthy People 2010 identify the most significant preventable threats to health and establishes national goals for the next ten years. Individuals, groups, and organizations are encouraged to integrate Healthy People 2010 into current programs, special events, publications, and meetings. Businesses can use the framework, for example, to guide worksite health promotion activities as well as community-based initiatives. Schools, colleges, and civic and faith-based organizations can undertake activities to further the health of all members of their community. Health care providers can encourage their patients to pursue healthier lifestyles and to participate in community-based programs. By selecting from among the national objectives, individuals and organizations can build an agenda for community health improvement and can monitor results over time. More information on the Healthy People 2010 objectives may be found on the Healthy People 2010 Web site: http://www.health.gov/healthypeople.

Holistic: Looking at women's health from the perspective of the whole person and not as a group of different body parts. It includes dental, mental, as well as physical health.

Integrated: In the CCOE context, the bringing together of the numerous spheres of activity (6 CCOE components) that touch women's health, including clinical services, research, health training, public health outreach and education, leadership development for women, and technical assistance. The goal of this approach is to unite the strengths of each of these areas, and create a more informed, less fragmented, and efficient system of care for underserved women that can be replicated in other populations and communities.

Lifespan: Recognizes that women have different health and psychosocial needs as they encounter transitions across their lives and that the positive and negative effects of health and health behaviors are cumulative across a woman's life.

Multi-disciplinary: An approach that is based on the recognition that women's health crosses many disciplines, and that women's health issues need to be addressed across multiple disciplines, such as adolescent health, geriatrics, cardiology, mental health, reproductive health, nutrition, dermatology, endocrinology, immunology, rheumatology, dental health, etc.

Rural Community: All territory, population, and housing units located outside of urban areas and urban cluster.

Social Role: Recognizes that women routinely perform multiple, overlapping social roles that require continuous multi-tasking.

Sustainability: An organization's or program's staying power: the capacity to maintain both the financial resources and the partnerships/linkages needed to provide the services demanded from a CCOE program. It also involves the ability to survive change, incorporate needed changes, and seize opportunities provided by a changing environment.

Underserved Women: In the context of the CCOE model, women who encounter barriers to health care that result from any combination of the following characteristics: poverty, ethnicity and culture, mental or physical state, housing status, geographic location, language, age, and lack of health insurance/under-insured.

Women-centered/women-focused: Addressing the needs and concerns of women (women-relevant) in an environment that is welcoming to women, fosters a commitment to women, treats women with dignity, and empowers women through respect and education. The emphasis is on working with women, not for women. Women clients are considered active partners in their own health and wellness.

Dated: June 9, 2004.
Wanda K. Jones,
Deputy Assistant Secretary for Health (Women's Health), Office of Public Health and Science.

[FR Doc. 04-13894 Filed 6-18-04; 8:45 am]

BILLING CODE 4150-33-P